DEPARTMENT OF ENERGY

Federal Energy Regulatory Commission

Combined Notice of Filings #2

Take notice that the Commission received the following exempt wholesale generator filings:

Docket Numbers: EG25-363-000.

Applicants: 64NB 8me LLC.

Description: 64NB 8me LLC submits Notice of Self-Certification of Exempt Wholesale Generator Status.

Filed Date: 6/27/25.

Accession Number: 20250627-5170.

Comment Date: 5 p.m. ET 7/18/25.

Take notice that the Commission received the following electric rate filings:

Docket Numbers: ER25-2675-000.

Applicants: West Boylston Energy Storage I LLC.

Description: Initial Rate Filing: Baseline new to be effective 6/28/2025.

Filed Date: 6/27/25.

Accession Number: 20250627-5101.

Comment Date: 5 p.m. ET 7/18/25.

Docket Numbers: ER25-2676-000.

Applicants: OSCII Gildersleeve, LLC.

Description: Initial Rate Filing: Baseline new to be effective 6/28/2025

Filed Date: 6/27/25.

Accession Number: 20250627-5102.

Comment Date: 5 p.m. ET 7/18/25.

Docket Numbers: ER25-2677-000.

Applicants: Midcontinent Independent System Operator, Inc.

Description: § 205(d) Rate Filing: 2025-06-27_Tariff Consolidation for Schedules 7,8,9 to be effective 10/1/2019.

Filed Date: 6/27/25.

Accession Number: 20250627-5104.

Comment Date: 5 p.m. ET 7/18/25.

Docket Numbers: ER25-2678-000.

Applicants: Southwest Power Pool, Inc.

Description: § 205(d) Rate Filing: 2415R23 Kansas Municipal Energy Agency NITSA and NOA to be effective 9/1/2025.

Filed Date: 6/27/25.

Accession Number: 20250627-5107.

Comment Date: 5 p.m. ET 7/18/25.

Docket Numbers: ER25-2679-000.

Applicants: Heritage Power Marketing, LLC.

Description: § 205(d) Rate Filing: Market-Based Rate Tariff Revisions to be effective 6/28/2025.

Filed Date: 6/27/25.

Accession Number: 20250627-5108.

Comment Date: 5 p.m. ET 7/18/25.

Docket Numbers: ER25-2680-000.

Applicants: New York Independent System Operator, Inc.

Description: Compliance filing: NYISO Compliance Filing re: Order 676-K NAESB/WEQ Standards to be effective 2/27/2026.

Filed Date: 6/27/25.

Accession Number: 20250627-5112.

Comment Date: 5 p.m. ET 7/18/25.

Docket Numbers: ER25-2681-000.

Applicants: Southwest Power Pool, Inc.

Description: § 205(d) Rate Filing: 1276R38 Evergy Metro NITSA NOA to be effective 9/1/2025.

Filed Date: 6/27/25.

Accession Number: 20250627-5113.

Comment Date: 5 p.m. ET 7/18/25.

Docket Numbers: ER25-2682-000.

Applicants: FL Solar 8, LLC.

Description: § 205(d) Rate Filing: FL Solar 8 Initial MBR Tariff Filing to be effective 8/1/2025.

Filed Date: 6/27/25.

Accession Number: 20250627-5114.

Comment Date: 5 p.m. ET 7/18/25.

Docket Numbers: ER25-2683-000.

Applicants: Richland Township Solar II, LLC.

Description: § 205(d) Rate Filing: Shared Facilities Agreement to be effective 6/28/2025.

Filed Date: 6/27/25.

Accession Number: 20250627-5117.

Comment Date: 5 p.m. ET 7/18/25.

Docket Numbers: ER25-2684-000.

Applicants: Alabama Power Company, Georgia Power Company, Mississippi Power Company.

Description: § 205(d) Rate Filing: Alabama Power Company submits tariff filing per 35.13(a)(2)(iii: Stellar (Shamrock Solar) LGIA Filing to be effective 6/13/2025.

Filed Date: 6/27/25.

Accession Number: 20250627-5127.

Comment Date: 5 p.m. ET 7/18/25.

Docket Numbers: ER25-2685-000.

Applicants: Alabama Power Company, Georgia Power Company, Mississippi Power Company.

Description: § 205(d) Rate Filing: Alabama Power Company submits tariff filing per 35.13(a)(2)(iii: AMEA NITSA Amendment Termination Filing to be effective 5/30/2025.

Filed Date: 6/27/25.

Accession Number: 20250627-5130.

Comment Date: 5 p.m. ET 7/18/25.

Docket Numbers: ER25-2686-000.

Applicants: Appalachian Power Company.

Description: § 205(d) Rate Filing: Application to Recover Deferred Fuel Expenses in Market-Based Rate Contracts to be effective 8/27/2025.

Filed Date: 6/27/25.

Accession Number: 20250627-5141.

Comment Date: 5 p.m. ET 7/18/25.

Docket Numbers: ER25-2687-000.

Applicants: PJM Interconnection, L.L.C.

Description: Compliance filing: Order No. 676-K Compliance Revisions to Tariff, Section 4.2 to be effective 2/27/2026.

Filed Date: 6/27/25.

Accession Number: 20250627-5162.

Comment Date: 5 p.m. ET 7/18/25.

Docket Numbers: ER25-2688-000.

Applicants: Star Light Energy Center, LLC.

Description: § 205(d) Rate Filing: Application for Market-Based Rate Authorization—Star Light Energy Ctr to be effective 8/27/2025.

Filed Date: 6/27/25.

Accession Number: 20250627-5195.

Comment Date: 5 p.m. ET 7/18/25.

Docket Numbers: ER25-2689-000.

Applicants: Duke Energy Progress, LLC.

Description: § 205(d) Rate Filing: DEP-DEP Engineering and Procurement Agreement RS No. 471 to be effective 8/27/2025.

Filed Date: 6/27/25.

Accession Number: 20250627-5196.

Comment Date: 5 p.m. ET 7/18/25.

Docket Numbers: ER25-2690-000.

Applicants: Key Energy Storage, LLC.

Description: § 205(d) Rate Filing: Application for Market-Based Rate Authorization—Key Energy Storage to be effective 8/27/2025.

Filed Date: 6/27/25.

Accession Number: 20250627-5197.

Comment Date: 5 p.m. ET 7/18/25.

Docket Numbers: ER25-2691-000.

Applicants: Panhandle Solar, LLC.

Description: § 205(d) Rate Filing: Application for Market-Based Rate Authorization—Panhandle Solar to be effective 8/27/2025.

Filed Date: 6/27/25.

Accession Number: 20250627-5198.

Comment Date: 5 p.m. ET 7/18/25.

Docket Numbers: ER25-2692-000.

Applicants: DTE Electric Company.

Description: § 205(d) Rate Filing: Amendment to Rate Agreement 28—to be effective 8/1/2025.

Filed Date: 6/27/25.

Accession Number: 20250627-5199.

Comment Date: 5 p.m. ET 7/18/25.

Docket Numbers: ER25-2693-000.

Applicants: Duke Energy Progress, LLC.

Description: Tariff Amendment: DEP-DEP Notice of Termination of SA 456 to be effective 8/27/2025.

Filed Date: 6/27/25.

Accession Number: 20250627-5201.

Comment Date: 5 p.m. ET 7/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 27, 2025.
Carlos D. Clay,
Deputy Secretary.

[FR Doc. 2025-12336 Filed 7-1-25; 8:45 am]

BILLING CODE 6717-01-P